DEPARTMENT OF THE INTERIOR

National Park Service

Draft Supplemental Environmental Impact Statement for Yosemite Valley Plan, Yosemite National Park, Madera, Mono, Tuolumne, and Mariposa Counties, California; Notice of Availability

SUMMARY: Pursuant to § 102(2)(C) of the National Environmental Policy Act of 1969 (Pub. L. 91-190, as amended), and the Council on Environmental Quality regulations (40 CFR Part 1500-1508), the National Park Service, Department of the Interior, has prepared a Draft Supplemental Environmental Impact Statement identifying and evaluating five alternatives for a Yosemite Valley Plan within Yosemite National Park, California. Potential impacts, and appropriate mitigations, are assessed for each alternative. When approved, the plan will guide management actions during the next 15-20 years.

Proposal

The proposed Yosemite Valley Plan (Alternative 2—Preferred) would restore approximately 180 acres to natural conditions. It would consolidate parking for day visitors at Yosemite Village, where a new Valley Visitor Center would be located, and in parking areas outside Yosemite Valley. There would be fewer campsites and lodging units than there are now. This alternative would result in a major reduction in vehicle travel in the eastern portion of Yosemite Valley during summer months. The area of the former Upper and Lower River Campgrounds would be restored to a mosaic of meadow, riparian, and oak woodland communities, roads would be removed from Ahwahnee and Stoneman Meadows, and parking would be removed from Curry Orchard. Southside Drive would be converted to two-way traffic from El Capitan crossover to Curry Village, and Northside Drive would be converted to a multi-use (bicycle and pedestrian) paved trail from El Capitan crossover to Yosemite Lodge.

Alternatives

Alternative 1 maintains the status quo in Yosemite Valley, as described in Chapter 3, Affected Environment. It provides a baseline from which to compare other alternatives, to evaluate the magnitude of proposed changes, and to measure the environmental effects of those changes. This no-action concept follows the guidance of the Council on Environmental Quality, which describes the no-action alternative as no change from the current management direction or level of management intensity.

Alternative 3 would restore approximately 200 acres to natural conditions. It would consolidate parking for day visitors in the Taft Toe area in mid Yosemite Valley. A new Valley Visitor Center would also be constructed there. There would be fewer campsites and lodging units than there are now. The area of the former Upper and Lower River Campgrounds and the Camp 6 parking area near Yosemite Village would be restored to riparian habitat, roads would be removed from Ahwahnee and Stoneman Meadows, and parking and the historic fruit trees would be removed from Curry Orchard. Northside Drive would be converted to a trail for pedestrians and bicyclists, without the immediate presence of motor vehicles, from Yosemite Lodge to El Capitan Bridge. Southside Drive would be converted to two-way traffic from Taft Toe to Curry Village.

Alternative 4 would restore approximately 190 acres to natural conditions. It would consolidate parking for day visitors in the Taft Toe area in mid Yosemite Valley and in three parking areas outside the Valley. A new Valley Visitor Center would also be constructed at Taft Toe. There would be fewer campsites and lodging units than there are now. The area of former Upper and Lower River Campgrounds and the Camp 6 parking area near Yosemite Village would be restored to riparian communities; roads would be removed from Ahwahnee and Stoneman Meadows; and parking would be removed from Curry Orchard. Northside Drive would be converted to a multi-use paved trail for hikers and bicyclists, without the immediate presence of motor vehicles, from Yosemite Lodge to El Capitan crossover. Southside Drive would be converted to two-way traffic from Taft Toe to Curry Village.

Alternative 5 would restore approximately 120 acres to natural conditions. It would designate parking for day visitors at Yosemite Village and Curry Village, and in parking areas outside of Yosemite Valley. There would be more campsites and fewer lodging units than there are now. Traffic circulation would remain the same as at present; however, one lane of Northside and Southside Drives would be converted to multi-use paved trails. There would be minimal new development in mid and west Yosemite Valley, other than a traffic check station.

Planning Background

The draft Yosemite Valley Plan/SEIS was prepared pursuant to the National Environmental Policy Act. A Scoping Notice was published in the Federal Register on December 16, 1998. Lists of general issues already raised during the previous planning processes were provided to the public. Scoping comments were to be received by January 15, 1999, however based on requests from the public; the scoping comment period was extended through February 1, 1999.

During this comment period, the NPS facilitated over 100 discussions and briefings to park staff, congressional delegations, elected officials, public service organizations, educational institutions, and other interested members of the public. Nearly 600 letters concerning the Draft YVP SEIS planning process were received. The major issues raised during this period are summarized in Chapter 1, Purpose of and Need for the Action.

Public Meetings

In order to facilitate public review and comment on the draft Yosemite Valley Plan/SEIS, the Superintendent has scheduled public meetings in the following California cities: San Francisco—May 22; Sacramento—May 23; Merced—May 24; Oakland—May 25; Yosemite—May 30; Oakhurst—May 31; Mariposa—June 1; Sonora—June 2; Costa Mesa—June 5; Los Angeles—June 6; San Diego—June 7; Mammoth—June 9; Fresno—June 15; San Jose—June 17. The following times are for all venues except San Jose. An open house will be conducted from 4 p.m. to 9:30 p.m and a public hearing will be held simultaneously from 6:30 p.m to 9 p.m. A brief presentation from 6 p.m. to 6:30 p.m. will precede the public hearing. The San Jose open house will be from 11:00 a.m. to 4:30 p.m., the presentation will be from 1:30 p.m. to 2 p.m. and the public hearing will be from 2 p.m. until 4:30 p.m.

Participants are encouraged to review the document prior to attending a meeting. Detailed information on location and times for each of the public meetings will be published in local and regional newspapers several weeks in advance, broadcast via radio and television stations, and listed on the park's Webpage. Yosemite National Park management and planning officials will attend all sessions to present the draft Yosemite Valley Plan/SEIS, to receive oral and written comments, and to answer questions.

Comments

The draft Yosemite Valley Plan/SEIS will be sent directly to the park's general mailing list. Copies will be available at park headquarters in Yosemite Valley, the Warehouse Building in El Portal, and at local and regional libraries (i.e., San Francisco and Los Angeles). Also, the complete document will be posted on the Yosemite National Park Webpage (http://www.nps.gov/yose/planning). Written comments must be received (or transmitted by e-mail) on or before July 7, 2000. All comments should be addressed to the Superintendent, Attn: Yosemite Valley Plan, P.O. Box 577, Yosemite National Park, California 95389 (or e-mailed to: Yose_Planning@nps.gov).

All comments received will be available for public review in the park's research library. If individuals submitting comments request that their name and/or address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses, and, anonymous comments may not be considered.

Decision Process

Depending upon the degree of public interest and response from other agencies and organizations, at this time it is anticipated that the Final Yosemite Valley Plan/SEIS will be completed during October 2000; availability of the document will be duly noticed in the Federal Register. Subsequently, notice of an approved Record of Decision would be published in the Federal Register not sooner than thirty (30) days after the final document is distributed. This is expected to occur by the end of December 2000. The official responsible for the decision is the Regional Director, Pacific West Region, National Park Service; the official responsible for implementation is the Superintendent, Yosemite National Park.

Dated: April 5, 2000.
John J. Reynolds,
Regional Director, Pacific West Region.

[FR Doc. 00-8998 Filed 4-12-00; 8:45 am]

BILLING CODE 4310-70-P